DEPARTMENT OF AGRICULTURE

Foreign Agricultural Service

Trade Adjustment Assistance for Farmers

AGENCY: Foreign Agricultural Service, USDA.

ACTION: Notice.

The Administrator, Foreign Agricultural Service (FAS), today accepted petitions filed by South Carolina Shrimpers' Association, P.O. Box 66, McClellanville, South Carolina 29458, and the South Carolina Shrimp Growers Association, 7575 Ethel Post Office Road, Meggett, South Carolina 29449, for trade adjustment assistance. The groups represent shrimpers and shrimp growers, respectively, in the state of South Carolina. The Administrator will determine within 40 days whether or not imports of shrimp and prawns contributed importantly to a decline in domestic producer prices of 20 percent or more during the marketing year period beginning January 2002 through December 2002. If the determination is positive, all shrimp producers in South Carolina will be eligible to apply to the Farm Service Agency for technical assistance at no cost and for adjustment assistance payments.

FOR FURTHER INFORMATION CONTACT: Jean-Louis Pajot, Coordinator, Trade Adjustment Assistance for Farmers, FAS, USDA, (202) 720-2916, e-mail: trade.adjustment@fas.usda.gov.

Dated: September 25, 2003.
A. Ellen Terpstra,
Administrator, Foreign Agricultural Service.

[FR Doc. 03-24861 Filed 9-29-03; 8:45 am]

BILLING CODE 3410-10-P